DEPARTMENT OF HEALTH AND HUMAN SERVICES

Centers for Disease Control and Prevention

[30Day-15-0920]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Data Collection Through Web Based Surveys for Evaluating Act Against AIDS Social Marketing Campaign Phases Targeting Consumers (Generic ICR, OMB# 0920-0920, Expires 2/28/2015)—Extension—National Center for HIV/AIDS, Viral Hepatitis, STD and TB Prevention (NCHHSTP), Centers for Disease Control and Prevention (CDC).

Background and Brief Description

In response to the continued HIV epidemic in our country, CDC has launched Act Against AIDS, a 5-year, multifaceted communication campaign to reduce HIV incidence in the United States. CDC plans to release the campaign in phases, with some of the phases running concurrently. Each phase of the campaign will use mass media and direct-to-consumer channels to deliver HIV prevention and testing messages. Some components of the campaign will be designed to provide basic education and increase awareness of HIV/AIDS among the general public, and others will be targeted to specific subgroups or communities at greatest risk of infection. The current study addresses the need to assess the effectiveness of these social marketing messages aimed at increasing HIV awareness and delivering HIV prevention and testing messages among at-risk populations.

This extension of an ongoing study will evaluate the Act Against AIDS (AAA) social marketing campaign aimed at increasing HIV/AIDS awareness, increasing prevention behaviors, and improving HIV testing rates among consumers. A total of 36,000 respondents were originally approved for this 3-year data collection. Since the original approval date, 4,250 respondents have participated in the surveys. The number of remaining respondents for the 3-year period is 31,750. We anticipate screening approximately 52,915 individuals annually to achieve 10,583 respondents annually. The information collected from each of the data collections were used to evaluate specific AAA campaign phases. We are requesting additional time to continue to survey other AAA target audiences and campaign phases and measuring exposure to each phase of the campaign and interventions implemented under AAA.

Depending on the target audience for the campaign phase, the study screener will vary. The study screener may address one or more of the following items: race/ethnicity, sexual behavior, and sexual orientation. Each survey will have a core set of items asked in all rounds, as well as a module of questions relating to specific AAA activities and communication initiatives.

Survey respondents will be selected from a combination of sources, including a national opt-in email list sample and respondent lists generated by partnership organizations (e.g., the National Urban League, the National Medical Association). Participants will self-administer the survey at home on personal computers. There is no cost to the respondents other than their time. The total number of estimated annual burden hours is 7,056.

Estimated Annualized Burden Hours
Respondents | Form name | Number of respondents | Number of responses per respondent | Average burden per response (in hours)
Individuals (male and female) aged 18 years and older/Study Screener | Study Screener | 52,915 | 1 | 2/60
Individuals (male and female) aged 18 years and older | Survey | 10,583 | 1 | 30/60

Leroy A. Richardson,
Chief, Information Collection Review Office, Office of Scientific Integrity, Office of the Associate Director for Science, Office of the Director, Centers for Disease Control and Prevention.

[FR Doc. 2015-03246 Filed 2-17-15; 8:45 am]

BILLING CODE 4163-18-P